DEPARTMENT OF THE INTERIOR

Bureau of Land Management

[UT-030 -05-1610—PH-241A]

Notice of Resource Advisory Committee Meeting

AGENCY: Grand Staircase-Escalante National Monument (GSENM), Bureau of Land Management (BLM), Department of the Interior.

ACTION: Notice of Grand Staircase-Escalante National Monument Advisory Committee (GSENMAC) meeting.

SUMMARY: Grand Staircase-Escalante National Monument Advisory Committee (GSENMAC) will meet as indicated below.

DATES: Two days of meetings are scheduled for June 28-29, 2005, at the Escalante Interagency Visitor Center, Conference Room, 755 W. Main Street, Escalante, UT.

FOR FURTHER INFORMATION CONTACT: Contact Larry Crutchfield, Public Affairs Officer, GSENM Headquarters Office, 190 East Center, Kanab, Utah 84741; phone (435) 644-4310, or e-mail larry_crutchfield@blm.gov.

SUPPLEMENTARY INFORMATION: In accordance with the Federal Land Policy and Management Act (FLPMA) and the Federal Advisory Committee Act of 1972 (FACA), the U.S. Department of the Interior, Bureau of Land Management (BLM), the GSENMAC will meet on June 28 and 29, 2005, in Escalante, Utah. The meetings will be held at the Escalante Interagency Visitor Center, 755 W. Main Street, Escalante, Utah. The meeting on June 28 will begin at 9:30 a.m. and conclude at 6:30 p.m.; the meeting on June 29 will begin at 8 a.m. and conclude at 4 p.m.

The Grand Staircase-Escalante National Monument Advisory Committee (GSENMAC) was appointed by the Secretary of Interior on September 26, 2003, pursuant to the Monument Management Plan, the Federal Land Policy and Management Act of 1976 (FLPMA), and the Federal Advisory Committee Act of 1972 (FACA). As specified in the Monument Management Plan, the GSENMAC will have several primary tasks (1) Review evaluation reports produced by the Management Science Team and make recommendations on protocols and projects to meet overall objectives. (2) Review appropriate research proposals and make recommendations on project necessity and validity. (3) Make recommendations regarding allocation of research funds through review of research and project proposals as well as needs identified through the evaluation process above. (4) Could be consulted on issues such as protocols for specific projects.

Topics to be presented and discussed by the GSENMAC include: GSENMAC consultation requirements under the Monument Management Plan; Sub-committee reports (Rangeland Health, Science, and Marketing/Partnerships/Revenue); and 2006 Science Symposium.

Members of the public are welcome to address the council from 5:30 p.m. to 6:30 p.m., local time on June 28, 2005, in Escalante, Utah at the Escalante Interagency Visitor Center. Depending on the number of persons wishing to speak, a time limit could be established. Interested persons may make oral statements to the GSENMAC during this time or written statements may be submitted for the GSENMAC's consideration. Written statements can be sent to: Grand Staircase-Escalante National Monument, Attn.: Larry Crutchfield, 190 E. Center Street, Kanab, UT 84741. Information to be distributed to the GSENMAC is requested 10 days prior to the start of the GSENMAC meeting.

All meetings are open to the public; however, transportation, lodging, and meals are the responsibility of the participating public.

Dated: June 3, 2005.
Dave Hunsaker,
Grand Staircase-Escalante National Monument Manager.

[FR Doc. 05-11451 Filed 6-8-05; 8:45 am]

BILLING CODE 4310-DQ-P